SMALL BUSINESS ADMINISTRATION

[Declaration of Disaster #3538]

State of Florida

Citrus, Manatee, and Pasco counties and the contiguous counties of De Soto, Hardee, Hernando, Hillsborough, Levy, Marion, Pinellas, Polk, Sarasota, and Sumter in the State of Florida constitute a disaster area due to damages caused by heavy rains and flooding beginning June 19 and continuing through August 21, 2003. Applications for loans for physical damage as a result of this disaster may be filed until the close of business on October 27, 2003, and for economic injury until the close of business on May 28, 2004, at the address listed below or other locally announced locations:

U.S. Small Business Administration, Disaster Area 2 Office, One Baltimore Place, Suite 300, Atlanta, GA 30308.

The interest rates are:

| Percent
For Physical Damage:
Homeowners With Credit Available Elsewhere | 5.625
Homeowners Without Credit Available Elsewhere | 2.812
Businesses With Credit Available Elsewhere | 5.906
Businesses and Non-profit Organizations Without Credit Available Elsewhere | 2.953
Others (Including Non-profit Organizations) With Credit Available Elsewhere | 5.500
For Economic Injury:
Businesses and Small Agricultural Cooperatives Without Credit Available Elsewhere | 2.953

The number assigned to this disaster for physical damage is 353806 and the number for economic injury is 9W7800.

(Catalog of Federal Domestic Assistance Program Nos. 59002 and 59008)

Dated: August 28, 2003.
Hector V. Barreto,
Administrator.

[FR Doc. 03-22529 Filed 9-3-03; 8:45 am]

BILLING CODE 8025-01-P